DEPARTMENT OF TRANSPORTATION

National Highway Traffic Safety Administration

Announcing the Fifteenth Public Meeting of the Crash Injury Research and Engineering Network (CIREN)

AGENCY: National Highway Traffic Safety Administration (NHTSA), DOT.

ACTION: Meeting announcement.

SUMMARY: This notice announces the Fifteenth Public Meeting of members of the Crash Injury Research and Engineering Network. CIREN is a collaborative effort to conduct research on crashes and injuries at eight Level 1 Trauma Centers linked by a computer network. Researchers can review data and share expertise, which could lead to a better understanding of crash injury mechanisms and the design of safer vehicles. Seven presentations on current research based on CIREN cases will be presented. The agenda will be posted to the CIREN Web site http://www-nrd.nhtsa.dot.gov/departments/nrd-50/ciren/CIREN.html three weeks prior to the meeting.

Date and Time: The meeting is scheduled from 8:30 a.m. to 2 p.m. on Wednesday, September 20th, 2006. This meeting will be hosted by the Froedtert Hospital and the Medical College of Wisconsin (MCW) CIREN Center.

ADDRESSES: The meeting will be held at: Radisson Hotel, 2300 N. Mayfair Road, Milwaukee, WI 53226, (414) 257-3400.

Special Demonstration: Following the CIREN research presentations, a tour of the MCW's car crash facility will be given along with a demonstration of an oblique pole impact test and an overview of current Federal Motor Vehicle Safety Standards including FMVSS No. 208 and FMVSS No.214.

To Register for This Event: Contact Judy Citta at (414) 266-6435 or e-mail _WICIREN@MCW.edu (Under score precedes WICIREN). Please provide name, affiliation, phone number and e-mail address. Registration is strongly recommended and required for parties wishing to participate in the special demonstration. You must register by September 5, 2006. Late registrations or those not registered are still welcome to attend the public meeting but you may not be able to attend the special demonstrations.

For General Information: Dale Halloway, (414) 805-5439.

SUPPLEMENTARY INFORMATION: The CIREN System has been established, and crash cases have been entered into the database by each Center. CIREN cases may be viewed from the NHTSA/CIREN Web site at: http://www-nrd.nhtsa.dot.gov/departments/nrd-50/ciren/CIREN.html. NHTSA has held three Annual Conferences where CIREN research results were presented. Further information about the three previous CIREN conferences is also available through the NHTSA Web site. NHTSA held the first public meeting on May 5, 2000, with a topic of lower extremity injuries in motor vehicle crashes; the second public meeting on July 21, 2000, with a topic of side impact crashes; the third public meeting on November 30, 2000, with a topic of thoracic injuries in crashes; the fourth public meeting on March 16, 2001, with a topic of offset frontal collisions; the fifth public meeting on June 21, 2001, on CIREN outreach efforts; the sixth public meeting (held in Ann Arbor, Michigan), with a topic of injuries involving sport utility vehicles; the seventh public meeting on December 6, 2001, with a topic of age related injuries (elderly and children); the eighth public meeting on April 25, 2002, with a topic of head and traumatic brain injuries; the ninth public meeting on August 22, 2002 (held at Harborview Injury Prevention and Research Center in Seattle, Washington), with presentations highlighting the various research specialties of the Centers; the tenth public meeting on December 5, 2002, with a topic of occult injuries; the eleventh public meeting on April 3, 2003, with papers on the injuries sustained in crashes where vehicles are mismatched in terms of size or weight; the twelfth public meeting on December 5, 2003 (held at the University of Alabama at Birmingham), with presentations on various research specialties of the Centers; the thirteenth public meeting on November 4, 2004 (held at the University of Maryland/National Study Center), with presentations on various research specialties and the fourteenth public meeting on March 28, 2006, in Washington, DC with presentations on various research specialties. Presentations from these meetings are available through the NHTSA Web site.

NHTSA plans to continue holding CIREN meetings on a regular basis to disseminate CIREN information to interested parties. This is the fifteenth such meeting. The CIREN Centers will be presenting papers on a variety of research topics.

Should it be necessary to cancel the meeting due to inclement weather or to any other emergencies, a decision to cancel will be made as soon as possible and posted immediately on CIREN's Web site http://www-nrd.nhtsa.dot.gov/departments/nrd-50/ciren/CIREN.html. If you do not have access to the Web site, you may call or e-mail the contacts listed in this announcement and leave your telephone number or e-mail address. You will be contacted only if the meeting is postponed or canceled.

Issued on: August 1, 2006.
Joseph N. Kanianthra,
Associate Administrator for Vehicle Safety Research.

[FR Doc. E6-12662 Filed 8-3-06; 8:45 am]

BILLING CODE 4910-59-P